FEDERAL COMMUNICATIONS COMMISSION

[OMB 3060-1170]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995 (44 U.S.C. 3501-3520), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid OMB control number. No person shall be subject to any penalty for failing to comply with a collection of information subject to the PRA that does not display a valid OMB control number.

DATES: Written PRA comments should be submitted on or before April 3, 2015. If you anticipate that you will be submitting comments, but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION: OMB Control Number: 3060-1170.

Title: Improving Spectrum Efficiency Through Flexible Channel Spacing and Bandwidth Utilization for Economic Area-based 800 MHz Specialized Mobile Radio Licensees—Notice Requirement Section 90.209.

Form Number: N/A.

Type of Review: Extension of a currently approved collection.

Respondents: Business or other for-profit entities.

Number of Respondents and Responses: 26 respondents; 26 responses.

Estimated Time per Response: 0.5—4 hours.

Frequency of Response: On occasion reporting requirement, third party disclosure requirement.

Obligation to Respond: Required to obtain or retain benefits. Statutory authority for this information collection is 47 U.S.C. 151, 152, 154, 301, 302(a), 303, 307, and 308 unless otherwise noted.

Total Annual Burden: 22 hours.

Total Annual Cost: $50,000.

Privacy Impact Assessment: No impact(s).

Nature and Extent of Confidentiality: There is no need for confidentiality with this collection of information.

Needs and Uses: 47 CFR 90.209(b)(7), requires EA-based 800 MHz SMR licensees authorized to exceed the standard channel spacing and authorized bandwidth under Section 90.209(b)(5) to provide at least 30 days written notice prior to initiating service in the 813.5-824/858.5-869 MHz band to every 800 MHz public safety licensee with a base station in the affected NPSPAC region, and every 800 MHz public safety licensee within 113 kilometers (70 miles) of the affected region.

Federal Communications Commission.
Sheryl D. Todd,
Deputy Secretary. Office of the Secretary, Office of the Managing Director.

[FR Doc. 2015-01845 Filed 1-30-15; 8:45 am]

BILLING CODE 6712-01-P